DEPARTMENT OF THE INTERIOR

National Park Service

National Register of Historic Places; Notification of Pending Nominations and Related Actions

Nominations for the following properties being considered for listing or related actions in the National Register were received by the National Park Service before June 20, 2009. Pursuant to section 60.13 of 36 CFR Part 60, written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 22, 2009.

J. Paul Loether,
Chief, National Register of Historic Places/National Historic Landmarks Program.

COLORADO

Jefferson County

Brook Forest Inn, 8136 S. Brook Forest Rd., Evergreen, 09000567

Montrose County

Denver & Rio Grande Railroad Box Outfit Car No. 04414, 82800Q 83rd Rd., Cimarron Visitor Center, Curecanti National Recreation Center (CURE), Cimarron, 09000568

KENTUCKY

Clark County

Upper Reaches of Boone Creek Rural Historic District, (Clark County MRA) Upper Boone Creek vicinity, Winchester, 09000569

Fayette County

Upper Reaches of Boone Creek Rural Historic District, (Clark County MRA) Upper Boone Creek vicinity, Lexington, 09000569

Franklin County

Central Frankfort Historic District, Bounded by East and West 2nd St., Logan St., the Kentucky River, High St., and Mero St., Frankfort, 09000570

Shelby County

Hinton-Scearce House, (Shelby County MRA) 212 Adams Pike, Shelbyville, 09000571

NEW YORK

Albany County

Lustron Houses of Jermain Street Historic District, (Lustron Houses in New York MPS) 1,3,5,7,8 Jermain St., Albany, 09000572

Columbia County

Dick House, 641 Co. Rte. 8, Germantown, 09000573

Herkimer County

Emmanuel Episcopal Church, 588 Albany St., Little Falls, 09000574

Lewis County

Lewis County Soldiers' and Sailors' Monument, Village Green, NY 26 and Bostwick Sts., Lowville, 09000575

RHODE ISLAND

Providence County

Borders Farm, 31-38 N. Rd, Foster, 09000576

TENNESSEE

Sumner County

Trousdale-Baskerville House, 211 W. Smith St., Gallatin, 09000577

WASHINGTON

King County

Roanoke Park Historic District, Bounded by Shelby St. on the N., Roanoke St. on the S., Harvard Ave. on the W., 10th Ave. on the E., Seattle, 09000578

Lincoln County

Atlas E Missile Site 9, 36000 Crescent Rd. N., Reardan, 09000579

WISCONSIN

Columbia County

Farnham, Fred and Lucia, House, 553 W. James St., Columbus, 09000580

Jones, John A. and Maggie, House, 307 N. Ludington St., Columbus, 09000581

[FR Doc. E9-15889 Filed 7-6-09; 8:45 am]

BILLING CODE P